Title 3—

The President

Proclamation 10241 of August 27, 2021

Overdose Awareness Week, 2021

By the President of the United States of America

A Proclamation

The overdose epidemic has taken a toll on far too many Americans and their loved ones. Addiction is a disease that touches families in every community, including my own. The epidemic is national, but the impact is personal. It is personal to the millions who confront substance use disorder every day, and to the families who have lost loved ones to an overdose.

During Overdose Awareness Week, we recommit to taking bold actions to prevent overdoses and related deaths, and enhance our support for individuals with substance use disorders.

In recent years, we have seen synthetic opioids, such as illicitly manufactured fentanyl, drive many overdose deaths with cocaine- and methamphetamine-related deaths also increasing at alarming rates. The COVID-19 pandemic has exacerbated the overdose epidemic, as necessary pandemic restrictions made it harder for individuals with addiction to receive the treatment and support services they need. These factors contributed to the more than 93,000 drug overdose deaths in 2020. As a Nation, we need a strong response to America's overdose epidemic and an investment in prevention, harm reduction, treatment and recovery services, as well as strategies to reduce the supply of illicit drugs.

While drug overdose and addiction affect many different communities across the United States, we also recognize the longstanding inequities experienced by people of color, people who identify as LGBTQ+, formerly incarcerated individuals, people experiencing homelessness, and others. For too many years, these communities have faced disparate access to health care, differential treatment in the criminal justice system, and poorer health outcomes.

My Administration is committed to addressing addiction and the overdose epidemic with evidence-based strategies. In April, to ensure that the Federal Government is promoting evidence-based public health and safety interventions, the Office of National Drug Control Policy released my Administration's first year drug policy priorities. These include expanding access to prevention, treatment and harm reduction efforts, reducing youth substance use, reducing the supply of illicit substances, advancing recovery-ready workplaces, and expanding the addiction workforce and access to recovery support services for all Americans. My Administration is also committed to eliminating racial disparities in responding to the overdose epidemic as well as reviewing the overall approach to drug policy.

This effort requires significant investments in our health care infrastructure. In my American Rescue Plan, we provided crucial funding for substance use disorder treatment and harm reduction, including a nearly $4 billion investment in our Nation's behavioral health infrastructure. This includes $30 million for a new Substance Abuse and Mental Health Services Administration grant program to support community-based efforts aimed at preventing overdoses and reducing harm associated with substance use.

We also recognize that many of our brave veterans recovering from service injuries may be vulnerable to opioid addiction. I signed the Dispose Unused Medications and Prescription Opioids Act to ensure that Veterans Affairs facilities provide locations to dispose controlled substances in a safe, secure and supportive environment.

Agencies across the Federal Government are also making significant strides in supporting individuals with substance use disorders. The Department of Health and Human Services continues to work on expanding access to evidence-based treatment, including a new policy to expand access to buprenorphine, a medication for the treatment of opioid use disorder. The Drug Enforcement Administration also issued a new rule that allows more opioid use disorder treatment programs to operate mobile components to better serve rural and underserved communities. These actions are only the beginning. My Administration will be taking additional actions to reduce barriers to life-saving treatment and expand access to prevention, harm reduction, and recovery support services.

Overdose Awareness Week provides us an opportunity to recommit ourselves to addressing this epidemic. By enhancing our support for individuals facing substance use disorder we can save lives.

NOW, THEREFORE, I, JOSEPH R. BIDEN JR., President of the United States of America, by virtue of the authority vested in me by the Constitution and the laws of the United States, do hereby proclaim August 29 through September 4, 2021, as Overdose Awareness Week. I call upon citizens, government agencies, organizations, healthcare providers, and research institutions to raise awareness of substance use disorders to combat stigma, to promote treatment and celebrate recovery, and to strengthen our collective efforts to prevent overdose deaths. August 31st also marks Overdose Awareness Day, on which our Nation mourns the lives lost to the drug overdose epidemic.

IN WITNESS WHEREOF, I have hereunto set my hand this twenty-seventh day of August, in the year of our Lord two thousand twenty-one, and of the Independence of the United States of America the two hundred and forty-sixth.

[FR Doc. 2021-19006

Filed 8-31-21; 8:45 am]

Billing code 3295-F1-P